DEPARTMENT OF LABOR

Employment and Training Administration

[TA-W-74,935]

Husqvarna Turf Care, a Subsidiary of Husqvarna A.B., Beatrice, NE; Notice of Negative Determination on Reconsideration

On May 3, 2011, the Department of Labor issued an Affirmative Determination Regarding Application for Reconsideration for the workers and former workers of Husqvarna Turf Care, a subsidiary of Husqvarna A.B., Beatrice, Nebraska (subject firm). The Department's Notice was published in the Federal Register on May 20, 2011 (76 FR 29273). The workers are engaged in activities related to the production of zero turn mowers for commercial users and home owners.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted was based on the findings that Criterion III has not been met because the worker separations are not attributable to increased imports or a shift in production to a foreign country. Rather, the investigation established that the worker separations were attributable to a shift in production to an affiliated facility within the United States, and that the shift is attributable to business considerations unrelated to increased imports.

With regard to the affiliated facility (TA-W-74,418) identified in the petition, the investigation confirmed that the shift by the workers' firm of computer-aided design (CAD) services to a foreign country was unrelated to the shift in production in this case.

With respect to Section 222(c) of the Act, the investigation revealed that Criterion (2) has not been met because the firm is not a Supplier or Downstream Producer to a firm that employed a worker group eligible to apply for Trade Adjustment Assistance.

In the request for reconsideration, the petitioner stated that “it has been the intent of Husqvarna to gradually but progressively move these jobs to another country or countries * * * It has been rumored that he (a line leader) has been given the ultimatum to increase his production or they would move this line to Germany. In addition to this, it was rumored that they had built a new building in Germany * * * and that our PZ line was already running in Germany before our plant had closed.”

In an attachment to the request, another worker stated that “we have reports that some of our jobs have already been moved to foreign soil and that more will be in the future.”

A careful review of the administrative record and additional information obtained by the Department during the reconsideration investigation confirmed that the worker separations are not attributable to increased imports or a shift in production to a foreign country. Rather, the investigation established that the worker separations were attributable to a shift in production to an affiliated facility within the United States, and that all production was moved to Orangeburg, South Carolina. Further, the firm addressed the above-mentioned petitioner allegations, in addition to confirming that separations were attributable to a shift in production to an affiliated facility within the United States, and that all production was moved to Orangeburg, South Carolina.

Conclusion

After reconsideration, I affirm the original notice of negative determination of eligibility to apply for worker adjustment assistance for workers and former workers of Husqvarna Turf Care, a subsidiary of Husqvarna A.B., Beatrice, Nebraska.

Signed in Washington, DC, on this 7th day of July 2011.
Del Min Amy Chen,
Certifying Officer, Office of Trade Adjustment Assistance.

[FR Doc. 2011-18238 Filed 7-19-11; 8:45 am]

BILLING CODE 4510-FN-P